DEPARTMENT OF ENERGY

Federal Energy Regulatory Commission

[Docket Nos. RM01-8-000, ER02-2001-000]

Electric Quarterly Reports; Notice of Electric Quarterly Reports Users Workshop

September 9, 2004.

This notice announces a two-day EQR Users Group Workshop in Washington, DC on September 21 and 22, 2004. All interested parties are invited to attend. The meeting will be held in the Commission Meeting Room at FERC headquarters, 888 First Street, NE., Washington, DC. For those unable to attend in person, access to some of the workshop sessions will be available by teleconference. These sessions are intended to be interactive meetings with considerable discussion of detailed elements of the EQR. The agenda for the Workshop is posted on FERC's Web site at http://www.ferc.gov/EventCalendar/EventDetails.aspx?ID=1270&CalType=%20&Date=9%2f21%2f2004&CalendarID=0.

The teleconferenced Users Group Meeting will run from 1 p.m. to 5 p.m. (e.s.t.) on Tuesday, September 21, and from 11 a.m. to 12:30 p.m. (e.s.t.) on Wednesday, September 22. There will be informal working sessions which will not be available via teleconference as follows: (1) Tuesday morning, from 9 a.m. until 12 p.m., (2) Wednesday, from 9:30 a.m. to 11 a.m.; and (3) Wednesday, from 1:30 p.m. to 3:45 p.m. Those interested in participating in person or via teleconference are asked to register online by Friday, September 17, 2004, at http://www.ferc.gov/whats-new/registration/eqr-0921-form.asp. There is no registration fee.

Interested parties wishing to file comments may do so under the above-captioned Docket Numbers. Those filings will be available for review at the Commission or may be viewed on the Commission's Web site at http://www.ferc.gov, using the “eLibrary” link. Enter the docket number excluding the last three digits in the docket number field to access the document. For assistance, contact FERC Online Support at FERCOnlineSupport@ferc.gov or via phone at (866) 208-3676 (toll-free). For TTY, contact (202) 502-8659.

For additional information, please contact Mark Blazejowski of FERC's Office of Market Oversight & Investigations at (202) 502-6055 or by e-mail, mark.blazejowski@ferc.gov.

Magalie R. Salas,
Secretary.

[FR Doc. E4-2211 Filed 9-15-04; 8:45 am]

BILLING CODE 6717-01-P